ENVIRONMENTAL PROTECTION AGENCY

[FRL-8051-2]

Annual Meeting of the Mid-Atlantic/Northeast Visibility Union (MANE-VU)

AGENCY: Environmental Protection Agency.

ACTION: Notice of meeting.

SUMMARY: The United States Environmental Protection Agency is announcing the 2006 Annual Board Meeting of the Mid-Atlantic Northeast Visibility Union (MANE-VU). This meeting will deal with matters relative to Regional Haze and visibility improvement in Federal Class I areas within MANE-VU.

DATES: The meeting will be held on May 10, 2006, starting at 9 a.m. (EDT).

ADDRESSES: Omni William Penn, 530 William Penn Place, Pittsburgh, Pennsylvania 15219; (412) 281-7100.

FOR FURTHER INFORMATION CONTACT: Questions regarding the agenda and registration for this meeting and all press inquiries should be directed to: Kromeklia Bryant, Ozone Transport Commission/MANE-VU Office, 444 North Capitol Street NW., Suite 638, Washington, DC 20001; (202) 508-3840; e-mail: ozone@otcair.org, Web site: http://www.manevu.org.

SUPPLEMENTARY INFORMATION: The Mid-Atlantic/Northeast Visibility Union (MANE-VU) was formed in 2001, in response to EPA's issuance of the Regional Haze rule. MANE-VU's members include: Connecticut, Delaware, the District of Columbia, Maine, Maryland, Massachusetts, New Hampshire, New Jersey, New York, Pennsylvania, Rhode Island, Vermont, the Penobscot Indian Nation, the St. Regis Mohawk Tribe along with EPA and Federal Land Managers.

Type of Meeting: This is the Annual Board Meeting and is open to the public.

Agenda: Questions regarding the agenda, registration and logistics of this meeting should be directed to the Executive Office of the Ozone Transport Commission/MANE-VU at (202) 508-3840, by e-mail: ozone@otcair.org or via the MANE-VU Web site at http://www.manevu.org.

Dated: March 22, 2006.
William Early,
Acting Regional Administrator, Region III.

[FR Doc. 06-3040 Filed 3-29-06; 8:45 am]

BILLING CODE 6560-50-M